DEPARTMENT OF THE TREASURY

Internal Revenue Service

Agency Collection Activities; Requesting Comments on Form 637 and IRS Notice 2023-06, IRS Notice 2024-06, Notice 2024-37, IRS Notice 2024-49

AGENCY: Internal Revenue Service (IRS), Treasury.

ACTION: Notice and request for comments.

SUMMARY: The Internal Revenue Service, as part of its continuing effort to reduce paperwork and respondent burden, invites the general public and other federal agencies to take this opportunity to comment on proposed and/or continuing information collections, as required by the Paperwork Reduction Act of 1995. The IRS is soliciting comments concerning Form 637, Application for Registration (For Certain Excise Tax Activities) and Questionnaires and IRS Notice 2023-06, IRS Notice 2024-06, Notice 2024-37, and IRS Notice 2024-49.

DATES: Written comments should be received on or before September 3, 2024 to be assured of consideration.

ADDRESSES: Direct all written comments to Andres Garcia, Internal Revenue Service, Room 6526, 1111 Constitution Avenue NW, Washington, DC 20224, or by email to pra.comments@irs.gov. Include OMB Control No. 1545-1835 in the subject line of the message.

FOR FURTHER INFORMATION CONTACT: Requests for additional information or copies of this collection should be directed to Jason Schoonmaker, (801) 620-2128, at Internal Revenue Service, Room 6526, 1111 Constitution Avenue NW, Washington, DC 20224, or through the internet at jason.m.schoonmaker@irs.gov.

SUPPLEMENTARY INFORMATION: The IRS is currently seeking comments concerning the following information collection tools, reporting, and record-keeping requirements:

Title: Application for Registration (For Certain Excise Tax Activities) and Questionnaires; IRS Notice 2023-06; IRS Notice 2024-06; IRS Notice 2024-37; IRS Notice 2024-49.

OMB Number: 1545-1835.

Form Number: Form 637.

Guidance Number: IRS Notice 2023-06, IRS Notice 2024-06, IRS Notice 2024-37, and IRS Notice 2024-49.

Abstract: Form 637 is used to apply for excise tax registration. The registration applies to a person required to be registered under Internal Revenue Code (IRC) section 4101 for purposes of the Federal excise tax on taxable fuel imposed under IRC sections 4041 and 4081; other persons required to be registered by IRC section 4101 for certain fuel activities for tax credits; certain manufacturers or sellers and purchasers required to be registered by IRC section 4222 to be exempt from the excise tax on taxable articles; certain persons required to be registered by IRC section 4662 to be exempt from the excise tax on taxable chemicals; and certain persons required to be registered by IRC section 4682 to be exempt from the excise tax on ozone-depleting chemicals. The data from Form 637 is used to determine if the applicant qualifies for registration.

IRS Notice 2023-26 provides guidance on the new sustainable aviation fuel credits under IRC sections 40B and 6426(k) and related credit and payment rules under IRC sections 34(a)(3), 38, 87, and 6427(e)(1) (SAF credit). This notice also provides rules related to the section 4101 registration requirements. The certificate, reseller statement, and declaration created by IRS Notice 2023-06 will allow the IRS to verify that claimants are making proper credit and payment claims with respect to the SAF credit.

IRS Notice 2024-06 allows taxpayers to use the Renewable Fuel Standard (RFS) methodology to calculate the amount of the SAF credit. IRS Notice 2024-06 updated the certificate to include the RFS methodology.

IRS Notice 2024-37 allows taxpayers to use the 40BSAF-GREET 2024 methodology to calculate the amount of the SAF credit. IRS Notice 2024-37 also allows use of domestic corn and soybean grown using climate smart agriculture pursuant to a program called the U.S. Department of Agriculture (USDA) Climate Smart Agriculture (CSA) Pilot Program (USDA CSA Pilot Program) to be considered in determining the amount of the SAF credit. If all the elements are met, the registered producer can increase the emissions reduction, allowing for a larger amount of the SAF credit.

IRS Notice 2024-49 provides guidance on the registration requirements under IRC sections 45Z and 4101 for the clean fuel production credit. Section 45Z(f)(1)(A)(i)(I) provides that no clean fuel production credit shall be determined with respect to any transportation fuel unless the taxpayer is registered as a producer of clean fuel under section 4101 at the time of production. IRS Notice 2024-49 provides guidance on the time, form, and manner of such registration. IRS Notice 2024-49 provides that applicants will use Form 637 to apply for registration with the IRS and can apply for Activity Letter “CN” (for a producer of clean transportation fuel which is not SAF), or Activity Letter “CA” (for a producer of clean transportation fuel which is SAF), or both, in accordance with the instructions provided in the notice until Form 637 is updated.

Current Actions: IRS Notice 2024-37 has added a new certificate, revised the certificate from Notice 2024-06, and included new recordkeeping requirements. IRS Notice 2024-49 is revising Form 637 to add new activity codes and activity letters to be requested on Form 637.

Type of Review: Revision of a currently approved collection.

Affected Public: Individuals or households, Business or other for-profit, and not-for-profit entities.

Estimated Number of Responses: 9,949.

Estimated Time per Response: varies, from 30 minutes up to 13 hours 30 minutes.

Estimated Total Annual Burden Hours: 32,344.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: June 28, 2024.
Jason M. Schoonmaker,
Tax Analyst.

[FR Doc. 2024-14643 Filed 7-2-24; 8:45 am]

BILLING CODE 4830-01-P